DEPARTMENT OF ENERGY

Federal Energy Regulatory Commission

Combined Notice of Filings #1

Take notice that the Commission received the following electric corporate filings:

Docket Numbers: EC24-85-000.

Applicants: Russellville Solar LLC.

Description: Application for authorization under Section 203 of the Federal Power Act of Russellville Solar LLC.

Filed Date: 6/5/24.

Accession Number: 20240605-5231.

Comment Date: 5 p.m. ET 6/26/24.

Take notice that the Commission received the following exempt wholesale generator filings:

Docket Numbers: EG24-200-000.

Applicants: Java Solar, LLC.

Description: Java Solar, LLC submits Notice of Withdrawal of Exempt Wholesale Generator Status.

Filed Date: 6/6/24.

Accession Number: 20240606-5147.

Comment Date: 5 p.m. ET 6/27/24.

Take notice that the Commission received the following electric rate filings:

Docket Numbers: ER24-1473-001.

Applicants: Midcontinent Independent System Operator, Inc., ALLETE, Inc.

Description: Compliance filing: Midcontinent Independent System Operator, Inc. submits tariff filing per 35: 2024-06-06_Compliance regarding ALLETE Request for Transmission Rate Incentives to be effective 5/10/2024.

Filed Date: 6/6/24.

Accession Number: 20240606-5048.

Comment Date: 5 p.m. ET 6/27/24.

Docket Numbers: ER24-1560-000.

Applicants: DTE Electric Company.

Description: Refund Report: Refund Report in Docket ER24-1560 to be effective N/A.

Filed Date: 6/6/24.

Accession Number: 20240606-5049.

Comment Date: 5 p.m. ET 6/27/24.

Docket Numbers: ER24-1698-000.

Applicants: AES ES Alamitos 2, LLC.

Description: Supplement to 04/04/2024 AES ES Alamitos 2, LLC tariff filing.

Filed Date: 5/31/24.

Accession Number: 20240531-5457.

Comment Date: 5 p.m. ET 6/10/24.

Docket Numbers: ER24-1729-001.

Applicants: Upper Missouri G. & T. Electric Cooperative, Inc..

Description: Tariff Amendment: UMPC Amended Formula Rate Change Filing to be effective 12/31/9998.

Filed Date: 6/5/24.

Accession Number: 20240605-5193.

Comment Date: 5 p.m. ET 6/26/24.

Docket Numbers: ER24-1832-000.

Applicants: North Fork Solar Project, LLC.

Description: Supplement to 04/24/2024 North Fork Solar Project, LLC tariff filing.

Filed Date: 6/3/24.

Accession Number: 20240603-5271.

Comment Date: 5 p.m. ET 6/13/24.

Docket Numbers: ER24-1941-000.

Applicants: Liberty County Solar Project, LLC.

Description: Supplement to 05/03/2024 Liberty County Solar Project, LLC tariff filing.

Filed Date: 6/3/24.

Accession Number: 20240603-5270.

Comment Date: 5 p.m. ET 6/13/24.

Docket Numbers: ER24-2173-000.

Applicants: MRP Elgin LLC.

Description: Request for limited waiver and expedited consideration of MRP Elgin LLC.

Filed Date: 5/31/24.

Accession Number: 20240531-5452.

Comment Date: 5 p.m. ET 6/17/24.

Docket Numbers: ER24-2191-000.

Applicants: Southwest Power Pool, Inc.

Description: 205(d) Rate Filing: 3928R1 Twelvemile Solar Energy Surplus Interconnection GIA to be effective 8/5/2024.

Filed Date: 6/5/24.

Accession Number: 20240605-5186.

Comment Date: 5 p.m. ET 6/26/24.

Docket Numbers: ER24-2192-000.

Applicants: Southwest Power Pool, Inc.

Description: 205(d) Rate Filing: 607R46 Evergy Kansas Central, Inc. NITSA NOA to be effective 6/1/2024.

Filed Date: 6/5/24.

Accession Number: 20240605-5189.

Comment Date: 5 p.m. ET 6/26/24.

Docket Numbers: ER24-2193-000.

Applicants: PJM Interconnection, L.L.C.

Description: 205(d) Rate Filing: Designated Entity Agreement, SA No. 7245 between PJM and AEP IMTCo to be effective 5/8/2024.

Filed Date: 6/5/24.

Accession Number: 20240605-5203.

Comment Date: 5 p.m. ET 6/26/24.

Docket Numbers: ER24-2194-000.

Applicants: PJM Interconnection, L.L.C.

Description: 205(d) Rate Filing: Designated Entity Agreement, SA No. 7246 between PJM and AEP I&M to be effective 5/8/2024.

Filed Date: 6/5/24.

Accession Number: 20240605-5205.

Comment Date: 5 p.m. ET 6/26/24.

Docket Numbers: ER24-2195-000.

Applicants: PJM Interconnection, L.L.C.

Description: 205(d) Rate Filing: Designated Entity Agreement, SA No. 7254 between PJM and PECO to be effective 5/17/2024.

Filed Date: 6/5/24.

Accession Number: 20240605-5208.

Comment Date: 5 p.m. ET 6/26/24.

Docket Numbers: ER24-2196-000.

Applicants: PJM Interconnection, L.L.C.

Description: 205(d) Rate Filing: Ministerial Clean-Up Revisions to PJM Tariff, Attachment Q to be effective 5/31/2024.

Filed Date: 6/5/24.

Accession Number: 20240605-5217.

Comment Date: 5 p.m. ET 6/26/24.

Docket Numbers: ER24-2197-000; EL24-116-000.

Applicants: Dominion Energy Virginia v. PJM Interconnection, L.L.C., Dominion Energy Services, Inc.

Description: Request for limited waiver or, in the alternative, complaint of Virginia Electric Power Company and request for shortened comment period and expedited consideration.

Filed Date: 6/4/24.

Accession Number: 20240604-5335.

Comment Date: 5 p.m. ET 6/18/24.

Docket Numbers: ER24-2198-000.

Applicants: Horizon West Transmission, LLC.

Description: Informational filing of 2024 formula rate annual update of Horizon West Transmission, LLC.

Filed Date: 6/5/24.

Accession Number: 20240605-5236.

Comment Date: 5 p.m. ET 6/26/24.

Docket Numbers: ER24-2199-000.

Applicants: Duke Energy Ohio, Inc.

Description: Tariff Amendment: DEO-Notice of Cancellation RS No. 282 to be effective 8/5/2024.

Filed Date: 6/6/24.

Accession Number: 20240606-5073.

Comment Date: 5 p.m. ET 6/27/24.

Docket Numbers: ER24-2200-000.

Applicants: Southwest Power Pool, Inc.

Description: 205(d) Rate Filing: 2900R23 KMEA NITSA NOA to be effective 6/1/2024.

Filed Date: 6/6/24.

Accession Number: 20240606-5076.

Comment Date: 5 p.m. ET 6/27/24.

Docket Numbers: ER24-2201-000.

Applicants: Java Solar, LLC.

Description: Tariff Amendment: Notice of Cancellation of Market-Based Rate Tariff to be effective 6/7/2024.

Filed Date: 6/6/24.

Accession Number: 20240606-5115.

Comment Date: 5 p.m. ET 6/27/24.

Docket Numbers: ER24-2202-000.

Applicants: California Independent System Operator Corporation.

Description: 205(d) Rate Filing: 2024-06-06 Planning Coordinator Agreement—1st Amendment—CDWR to be effective 6/27/2024.

Filed Date: 6/6/24.

Accession Number: 20240606-5142.

Comment Date: 5 p.m. ET 6/27/24.

Docket Numbers: ER24-2203-000.

Applicants: PJM Interconnection, L.L.C.

Description: 205(d) Rate Filing: Proposal to Memorialize Definitions for Synchronous Condensing Costs to be effective 8/6/2024.

Filed Date: 6/6/24.

Accession Number: 20240606-5158.

Comment Date: 5 p.m. ET 6/27/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 6, 2024.
Debbie-Anne A. Reese,
Acting Secretary.

[FR Doc. 2024-12871 Filed 6-11-24; 8:45 am]

BILLING CODE 6717-01-P